DEPARTMENT OF COMMERCE

International Trade Administration

[A-552-802]

Certain Frozen Warmwater Shrimp From the Socialist Republic of Vietnam: Partial Rescission of Antidumping Duty Administrative Review; 2016-2017

AGENCY: Enforcement and Compliance, International Trade Administration, Department of Commerce.

SUMMARY: The Department of Commerce (the Department) is rescinding the administrative review, in part, of the antidumping duty order on certain frozen warmwater shrimp from the Socialist Republic of Vietnam (Vietnam) for the period February 1, 2016 through January 31, 2017.

DATES: Applicable August 11, 2017.

FOR FURTHER INFORMATION CONTACT: Irene Gorelik, AD/CVD Operations, Office VIII, Enforcement and Compliance, International Trade Administration, Department of Commerce, 1401 Constitution Avenue NW., Washington, DC 20230; telephone: (202) 482-6905.

SUPPLEMENTARY INFORMATION:

Background

On April 10, 2017, based on timely requests for review of 55 companies by the Ad Hoc Shrimp Trade Action Committee (the petitioner) ¹ and of 88 companies by the American Shrimp Processors Association (ASPA) ² and various Vietnamese companies,³ the Department published in the Federal Register a notice of initiation of an administrative review of the antidumping duty order on certain frozen warmwater shrimp from Vietnam covering the period February 1, 2016, through January 31, 2017.⁴

¹ See Petitioner's Request for Administrative Review, dated February 24, 2017.

² See ASPA's Request for Administrative Review, dated February 28, 2017.

³ See VASEP's Request for Administrative Review, dated February 27, 2017. See also Soc Trang Seafood Joint Stock Company's Request for Administrative Review, dated February 22, 2017; Viet I-Mei Frozen Foods Co., Ltd.'s Request for Administrative Review, dated February 28, 2017.

⁴ See Initiation of Antidumping and Countervailing Duty Administrative Reviews, 82 FR 17188 (April 10, 2017) (Initiation Notice).

On July 7, 2017, Soc Trang Seafood Joint Stock Company withdrew its request for administrative review.⁵ On July 7, 2017, the petitioner and ASPA withdrew their respective requests for an administrative review of Soc Trang Seafood Joint Stock Company and its various name iterations, as were listed in the Initiation Notice.⁶ Subsequently, on July 10, 2017, the petitioner and ASPA also withdrew their respective requests for administrative review of Quoc Viet Seaproducts Processing Trading and Import-Export Co., Ltd., Viet I-Mei Frozen Foods Co., Ltd., and Seavina Joint Stock Company and their various name iterations, as were listed in the Initiation Notice.⁷ On July 10, 2017, Quoc Viet Seaproducts Processing Trading and Import-Export Co., Ltd. and Viet I-Mei Frozen Foods Co., Ltd. withdrew their respective requests for an administrative review; there are no remaining review requests on the record with respect to these companies.⁸ Additionally, because Seavina Joint Stock Company did not request a review of itself, there are no remaining review requests for Seavina Joint Stock Company.

⁵ See Soc Trang Seafood Joint Stock Company's Submission, “Stapimex Withdrawal of Request for Review,” dated July 7, 2017.

⁶ See Petitioners' Submission, “Domestic Producers' Partial Withdrawal of Review Requests,” dated July 7, 2017; and ASPA's Submission, “Partial Withdrawal of Request for Administrative Review,” dated July 7, 2017.

⁷ See ASPA's Submission, “Partial Withdrawal of Review Requests,” dated July 10, 2017; and Petitioner's Submission, “Partial Withdrawal of Review Requests,” dated July 10, 2017.

⁸ See Quoc Viet Seaproducts Processing Trading and Import-Export Co., Ltd. and Viet I-Mei Frozen Foods Co., Ltd.'s Submissions, “Partial Withdrawal of Review Requests,” dated July 10, 2017.

Partial Rescission of Review

Pursuant to 19 CFR 351.213(d)(1), the Department will rescind an administrative review, in whole or in part, if the party that requested the review withdraws its request within 90 days of the publication of the notice of initiation of the requested review. Because the petitioner, ASPA, and the individual companies all withdrew their requests for administrative review within 90 days of the date of publication of the Initiation Notice, and no other interested party requested a review of these companies, the Department is rescinding this review with respect to these companies, in accordance with 19 CFR 351.213(d)(1).⁹ The administrative review remains active with respect to all other companies for whom a review was initiated.

⁹ Quoc Viet Seaproducts Processing Trading and Import-Export Co., Ltd., and Quoc Viet Seaproducts Processing Trade and Import-Export Co., Ltd. (“Quoc Viet Co. Ltd.”); Seavina Joint Stock Company; Soc Trang Seafood Joint Stock Company (“STAPIMEX”); Viet I-Mei Frozen Foods Co., Ltd., and Viet I-Mei Frozen Foods Co. Ltd (“Viet I-Mei”).

Assessment

The Department will instruct U.S. Customs and Border Protection (CBP) to assess antidumping duties on all appropriate entries at a rate equal to the cash deposit of estimated antidumping duties required at the time of entry, or withdrawal from warehouse, for consumption, during the period February 1, 2016, through January 31, 2017, in accordance with 19 CFR 351.212(c)(1)(i). The Department intends to issue appropriate assessment instructions to CBP 15 days after the date of publication of this notice in the Federal Register, if appropriate.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: August 7, 2017.
James Maeder,
Senior Director performing the duties of Deputy Assistant Secretary for Antidumping and Countervailing Duty Operations.

[FR Doc. 2017-16996 Filed 8-10-17; 8:45 am]

BILLING CODE 3510-DS-P